DEPARTMENT OF LABOR

Occupational Safety and Health Administration

[Docket No. ICR-1218-0231(2002)]

Material Hoists, Personnel Hoists, and Elevators, Posting Requirements, and Certification Records for Test and Inspections in Construction; Extension of the Office of Management and Budget's (OMB) Approval of Information-Collection (Paperwork) Requirements

AGENCY: Occupational Safety and Health Administration (OSHA), Labor.

ACTION: Request for comment.

SUMMARY: OSHA solicits public comment concerning its request to extend OMB approval of the information-collection requirements specified in the Material Hoists, Personnel Hoists, and Elevators Standard in Construction (29 CFR 1926.552); Paragraph (a)(2), (b)(1)(i), (c)(10), and (c)(15) require specific information such as; rated load capacity; operating speed and special hazard warnings among others to be posted on the equipment. Paragraph (c)(15) requires that a test and inspection of all functions and safety devices be made by a competent person at not more than 3 month intervals and following any alteration of the equipment. The inspections need to be certified by a competent person, dated and the hoist identified.

DATES: Submit written comments on or before August 9, 2002.

ADDRESSES: Submit written comments to the Docket Office, Docket No. ICR-1218-0231(2002), OHSA, U.S. Department of Labor, Room N-2625, 200 Constitution Avenue, NW., Washington, DC 20210; telephone: (202) 693-2350. Commenters may transit written comments of 10 pages or less by facsimile to: (202) 693-1648.

FOR FURTHER INFORMATION CONTACT: Kathleen M. Martinez, Directorate of Policy, Office of Regulatory Analysis, OSHA, U.S. Department of Labor, Room N-3627, 200 Constitution Avenue, NW., Washington, DC 20210; telephone: (202) 693-1953. A copy of the Agency's Information-Collection Request (ICR) supporting the need for the information collections specified by the Material Hoists, Personnel Hoists, and Elevators Standard in Construction is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirement in accordance with the Paperwork Reduction Act of 1995 (PRA-95) (44 U.S.C. 3506(c)(2)(A)). This program ensures that information is in the desired format, reporting burden (time and cost) is minimal, collection instruments are clearly understood, and OSHA's estimate of the information-collection burden is correct.

The Material Hoists, Personnel Hoists, and Elevators Standard (i.e., “the Standard”) specifies the following paperwork requirements, as well as how they use it.

• Posting Requirements: Paragraphs (a)(2) and (c)(10) specifies that the rated load capacities, operating speed and special hazard warning be posted securely on cars, platforms, personnel hoists. Paragraphs (b)(1)(i) specifies that operating rules that have been established be posted at the operator's station of the hoist, such rules shall include signal system, allowable line speed for various loads.

• Personnel Hoists Records for Test and Inspection: Paragraph (c)(15) specifies that the employer perform tests and inspection on personnel hoist at no more than 3 month intervals and following any alterations on the equipment. In addition the employer must certify and maintain these records to show the compliance officer upon inspection.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and transmission techniques.

III. Proposed Actions

OSHA proposes to extend OMB's previous approval of the recordkeeping (paperwork) requirement specified in the Material Hoists, Personnel Hoists, and Elevators Standard (29 CFR 1926.552). The Agency will summarize the comments submitted in response to this notice, and will include this summary in its request to OMB to extend the approval of this information-collection requirement. The Agency has requested an increase of 14,431 burden hours. It has been determined 3 additional posting requirements, also updated the number of hoists making is consistent with other crane and derrick paperwork packages.

Type of Review: Extension of currently approved information-collection requirements.

Title: Material Hoists, Personnel Hoists, and Elevators; Posting Requirements and Test and Inspection Records.

OMB Number: 1218-0231.

Affected Public: Business or other for-profit; not-for-profit institutions; Federal government; State, local or tribal governments.

Number of Respondents: 26,547.

Frequency of Response: On Occasion; Quarterly.

Total Responses: 26,547.

Average Time per Response: 15 minutes or 5 minutes.

Estimated Total Burden Hours: 30,271.

Estimated Cost (Operation and Maintenance): $0.

IV. Authority and Signature

John L Henshaw, Assistant Secretary of Labor for Occupational Safety and Health, directed the preparation of this notice. The authority for this notice is the Paperwork Reduction Act of 1995 (44 U.S.C. 3506) and Secretary of Labor's Order No. 3-2000 (65 FR 50017).

Signed at Washington, DC on June 3rd, 2002.
John L. Henshaw,
Assistant Secretary of Labor.

[FR Doc. 02-14437 Filed 6-7-02; 8:45 am]

BILLING CODE 4510-26-M